DEPARTMENT OF THE INTERIOR

Bureau of Ocean Energy Management, Regulation and Enforcement

Outer Continental Shelf (OCS), Scientific Committee (SC)

AGENCY: Bureau of Ocean Energy Management, Regulation and Enforcement (BOEMRE), Interior.

ACTION: Notice of Vacancies and Request for Nominations.

SUMMARY: BOEMRE seeks interested and qualified individuals to serve on its OCS SC during the period of June 24, 2011 through June 23, 2014. The initial 3-year term may be renewed for up to one additional term. The OCS SC is chartered under the Federal Advisory Committee Act (FACA) to advise the Secretary of the Interior through the Director of the BOEMRE on the appropriateness, feasibility, and scientific value of the OCS Environmental Studies Program (ESP) and environmental aspects of the offshore energy and marine minerals programs. The ESP, initiated to support the U.S. Department of the Interior's offshore oil and gas leasing program and authorized by the OCS Lands Act as amended (Section 20), is administered by the BOEMRE. The program covers a wide range of field and laboratory studies in biology, chemistry, and physical oceanography, as well as studies of the social and economic impacts of OCS energy and marine minerals development. Currently, the work is conducted through award of competitive contracts and interagency and cooperative agreements. The OCS SC reviews the relevance of the information being produced by the ESP and may recommend changes in its scope, direction, and emphasis.

The OCS SC comprises distinguished scientists in appropriate disciplines of the biological, physical, chemical, and socioeconomic sciences. Currently, the OCS SC has 15 vacancies in the following disciplines: Biological oceanography/marine biology; social science; marine archaeology; and physical oceanography. The selections are based on maintaining disciplinary expertise in all areas of research, as well as geographic balance. Demonstrated knowledge of the scientific issues related to OCS oil and gas development or renewable energy is essential. The Secretary of the Interior makes selections on the basis of these factors.

Ethics Responsibilities of Members

Members are appointed as special Government employees and are subject to the financial disclosure provisions of the Ethics in Government Act and 5 CFR part 2634, which includes completing a confidential financial disclosure report. Materials are provided to members that will explain their ethical obligations. Consistent with the ethics requirements, members must endeavor to avoid any actions that would cause the public to question the integrity of the Committee's operations, activities, or advice. Members are subject to all other ethics regulations that are imposed upon them by an organization other than the Federal government. This would include those imposed by the University for which they work or those imposed by a professional organization (such as the Hippocratic Oath for physicians, etc.)

The Obama Administration prohibits individuals who are currently federally registered lobbyists to serve on all FACA and non-FACA boards, committees, or councils.

Interested individuals should email a letter of interest and resumé no later then December 17, 2010, to Ms. Phyllis Clark at Phyllis.Clark@boemre.gov. If you prefer, you may send them to Ms. Clark at BOEMRE, Offshore Energy and Minerals Management, 381 Elden Street, Mail Stop 4041, Herndon, Virginia 20170. She may be reached by telephone at (703) 787-1716.

Authority: Federal Advisory Committee Act, Pub. L. 92-463, 5 U.S.C., Appendix I, and the Office of Management and Budget's Circular A-63, Revised.

Dated: October 26, 2010.
Robert P. LaBelle,
Acting Associate Director for Offshore Energy and Minerals Management.

[FR Doc. 2010-29642 Filed 11-23-10; 8:45 am]

BILLING CODE 4310-MR-P